DEPARTMENT OF HEALTH AND HUMAN SERVICES

National Institutes of Health

Request for Comment: National Center for Complementary and Alternative Medicine Announcement of Strategic Planning White Papers

ACTION: Notice.

SUMMARY: The National Center for Complementary and Alternative Medicine (NCCAM) is developing its third strategic plan and invites the public to provide comments on two white papers which will support the development of this plan. The papers will cover two topics of particular research interest to NCCAM: natural products research and back pain research. They will be publicly available through the NCCAM Web site at http://nccam.nih.gov from on or about May 10 through May 24, 2010. The public is invited to provide comments through the NCCAM Web site.

Background: The National Center for Complementary and Alternative Medicine (NCCAM) was established in 1998 with the mission of exploring complementary and alternative healing practices in the context of rigorous science, training CAM researchers, and disseminating authoritative information to the public and professionals.

To date, NCCAM's efforts to rigorously study CAM, to train CAM researchers, and to communicate with the public and professionals, have been guided by NCCAM's previous strategic plans, located on the NCCAM Web site at http://nccam.nih.gov/about/plans.

The public is invited to review the background papers and provide comments from May 10 through May 24, 2010. The papers may be viewed at http://nccam.nih.gov/.

Request for Comments: The public is invited to provide comments on the two white papers that will support the development of NCCAM's third strategic plan. Comments may be provided through the NCCAM Web site at http://nccam.nih.gov.

FOR FURTHER INFORMATION CONTACT: To request more information, visit the NCCAM Web site at http://nccam.nih.gov, call 1-888-644-6226, or e-mail nccamsp@mail.nih.gov.

Comments Due Date: Comments regarding the draft of NCCAM's strategic plan are best assured of having their full effect if received by May 24, 2010.

Jack Killen,
Deputy Director, National Center for Complementary and Alternative Medicine, National Institutes of Health.

[FR Doc. 2010-11311 Filed 5-11-10; 8:45 am]

BILLING CODE 4140-01-P